ENVIRONMENTAL PROTECTION AGENCY

40 CFR Parts 1045, 1054, and 1065

[EPA-HQ-OAR-2004-0008; FRL-8712-8]

RIN 2060-AM34

Control of Emissions From Nonroad Spark-Ignition Engines and Equipment

Correction

In rule document E8-21093 beginning on page 59034 in the issue of Wednesday, October 8, 2008, make the following corrections:

§ 1045.205 [Corrected]

1. On page 59205, in the third column, in § 1045.205(q), in the fifth line, “CO2” should read “CO2”.

§ 1045.315 [Corrected]

2. On page 59212, in the second column, in § 1045.315(b), the equation should read as follows:

“Ci = Max [0 or Ci−1 + Xi − (STD + 0.25 × σ)]”

3. On the same page, in the same column, in § 1045.315(f), in the fourth line, “5.0 x σ” should read “5.0 × σ”.

§ 1054.112 [Corrected]

4. On page 59264, in the first column, in § 1054.112(b)(2), in the first line, “m2 day” should read “m²/day”.

§ 1065.370 [Corrected]

5. On page 59329, in the first column, in § 1065.370(c), in the third line, “± 3% or less” should read “± 2% or less”.

[FR Doc. Z8-21093 Filed 12-3-08; 8:45 am]

BILLING CODE 1505-01-D